DEPARTMENT OF TRANSPORTATION

Federal Aviation Administration

14 CFR Part 71

[Docket No. FAA-2020-0039; Airspace Docket No. 19-ASO-18]

RIN 2120-AA66

Amendment and Removal of Air Traffic Service (ATS) Routes; Eastern United States

AGENCY: Federal Aviation Administration (FAA), DOT.

ACTION: Final rule.

SUMMARY: This action amends 10 jet routes, and removes 8 jet routes, in the eastern United States. This action is in support of the Northeast Corridor Atlantic Route Project to improve the efficiency of the National Airspace System (NAS) and reduce the dependency on ground-based navigational systems.

DATES: Effective date 0901 UTC, July 16, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov, or go to https://www.archives.gov/federal-register/cfr/ibr-locations.html.

FOR FURTHER INFORMATION CONTACT: Paul Gallant, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA published a notice of proposed rulemaking for Docket No. FAA-2020-0039 in the Federal Register (85 FR 6118; February 4, 2020) amending and removing certain Air Traffic Service (ATS) routes in the eastern United States. Interested parties were invited to participate in this rulemaking effort by submitting written comments on the proposal. No comments were received.

Jet routes are published in paragraph 2004 of FAA Order 7400.11D dated August 8, 2019, and effective September 15, 2019, which is incorporated by reference in 14 CFR 71.1. The jet routes listed in this document will be subsequently amended in, or removed from, the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by amending 10 jet routes, and removing 8 jet routes in the eastern United States. This action supports the Northeast Corridor Atlantic Coast Route Project by removing or amending certain jet routes as a result of the continuing development of new high altitude RNAV routes (Q-routes) in the NAS. Additionally, the jet route changes will reduce aeronautical chart clutter by removing unneeded route segments.

The jet route changes are as follows:

J-14: J-14 currently extends between the Panhandle, TX, VORTAC; and the Patuxent, MD, VORTAC. This action removes the route segments between the Vulcan, AL, VORTAC and the Greensboro, NC, VORTAC. This splits the route into two separate parts. As amended, J-14 extends between Panhandle, TX, and Vulcan, AL; followed by a gap in the route, with a second part extending between Greensboro, NC, and Patuxent, MD.

J-20: J-20 currently extends between the Seattle, WA, VORTAC, and the Seminole, FL, VORTAC. This action removes the segments between the Montgomery, AL, VORTAC and Seminole, FL. The amended route extends between Seattle, WA, and Montgomery, AL.

J-40: J-40 currently extends between the Montgomery, AL, VORTAC, and the Richmond, VA, VOR/DME. This action removes the entire route.

J-41: J-41 currently extends between the Seminole, FL, VORTAC, and the Omaha, IA, VORTAC. This action removes the portion of the route between the Seminole, FL, VORTAC, and Montgomery, AL. The amended route extends between the Montgomery, AL, VORTAC, and Omaha, IA.

J-43: J-43 currently extends between the intersection of the Cross City, FL VORTAC 322° and the Seminole, FL, VORTAC, 359° radials, and the Carleton, MI, VOR/DME. This action removes the segments between the intersection of the Cross City and the Seminole radials and the Volunteer, TN, VORTAC. The amended route extends between Volunteer, TN, and Carleton, MI.

J-45: J-45 currently extends between the Alma, GA, VORTAC and the Aberdeen, SD, VOR/DME. The action removes the segments between the Alma, GA, VORTAC and the Atlanta, GA, VORTAC. The amended route extends between Atlanta, GA and Aberdeen, SD.

J-51: J-51 currently extends between the intersection of the Columbia, SC, VORTAC, 042° and the Flat Rock, VA, VORTAC, 212° radials, and the Yardley, NJ, VOR/DME. This action removes the entire route.

J-52: J-52 currently extends, in two segments: between the Vancouver, BC, Canada, VOR/DME and the Columbia, SC, VORTAC; and between the intersection of the Columbia 042° and the Flat Rock, VA, VORTAC, 212° radials, and the Richmond, VA, VOR/DME. This removes the segments between the Vulcan, AL, VORTAC and the intersection of the Columbia, SC, VORTAC, 042° and the Flat Rock, VA, VORTAC, 212° radials. As amended J-52 extends, in two parts: Between Vancouver, BC, Canada, and Vulcan, AL; followed by a gap in the route, and resuming between the intersection of the Columbia, SC 042° and the Flat Rock, VA, 212° radials, and Richmond, VA. The portion within Canada is excluded.

J-53: J-53 currently extends between the intersection of the Craig, FL 347° and the Colliers, SC 174° radials, and the Pulaski, VA, VORTAC. This action removes the entire route.

J-73: J-73 currently extends between the intersection of the Seminole, FL, VORTAC, 344° and the Cross City, FL, VORTAC, 322° radials, and Northbrook, IL, VOR/DME. This action removes the segment between the intersection of the Seminole, FL, 344° and the Cross City, FL, 322° radials, and the La Grange, GA, VORTAC. As amended, the route extends between La Grange, GA, and Northbrook, IL.

J-75: J-75 currently extends between the Greensboro, NC, VORTAC and the Boston, MA, VOR/DME. This action removes the entire route.

J-81: J-81 currently extends between the intersection of the Craig, AL, VORTAC, 347° and the Colliers, SC, VORTAC, 174° radials, and Colliers, SC. This action removes the entire route.

J-85: J-85 currently extends between the Alma, GA, VORTAC, and the Dryer, OH, VOR/DME. This action removes the segments between Alma, GA, and the Spartanburg, SC, VORTAC. As amended, J-85 extends between Spartanburg, SC, and Dryer, OH.

J-89: J-89 currently extends between the intersection of the Atlanta, GA, VORTAC, 161° and the Alma, GA, VORTAC, 252° radials, and the Winnipeg, MB, Canada, VORTAC. This action removes the segments between the intersection of the Atlanta and the Alma radials, and the Atlanta VORTAC. The amended route extends between the Atlanta, GA, VORTAC and Winnipeg, MB, Canada. The portion within Canada is excluded.

J-91: J-91 currently extends between the intersection of the Cross City, FL, VORTAC, 338° and the Atlanta, GA, VORTAC, 169° radials, and the Henderson, WV, VORTAC. This action remove the segments between the intersection of the Cross City VORTAC and the Atlanta, GA, VORTAC radials, and the Volunteer, TN, VORTAC. The amended route extends between the Volunteer, TN, VORTAC and the Henderson VORTAC.

J-97: J-97 currently extends between lat. 39°07′00″ N., long. 67°00′00″ W. (the SLATN Fix) and the Boston, MA, VOR/DME. This action removes the entire route.

J-210: J-210 currently extends between the Vance, SC, VORTAC and the Wilmington, NC, VORTAC. This action removes the entire route.

J-575: J-575 currently extends between the Boston, MA, VOR/DME and the Yarmouth, NS, Canada, VOR/DME. This action removes the entire route.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying 10 jet routes, removing 8 jet routes in the eastern United States qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes

* * * * *

J-14 [Amended]

From Panhandle, TX; via Will Rogers, OK; Little Rock, AR; to Vulcan, AL. From Greensboro, NC; Richmond, VA; INT Richmond 039° and Patuxent, MD, 228° radials; to Patuxent.

J-20 [Amended]

From Seattle, WA, via Yakima, WA; Pendleton, OR; Donnelly, ID; Pocatello, ID; Rock Springs, WY; Falcon, CO; Hugo, CO; Lamar, CO; Liberal, KS; INT Liberal 137° and Will Rogers, OK, 284° radials; Will Rogers; Belcher, LA; Magnolia, MS; Meridian, MS; to Montgomery, AL.

J-40 [Removed]

J-41 [Amended]

From Montgomery, AL; Vulcan, AL; Memphis, TN; Springfield, MO, Kansas City, MO, to Omaha, IA.

J-43 [Amended]

From Volunteer, TN; Falmouth, KY; Rosewood, OH; to Carleton, MI.

J-45 [Amended]

From Atlanta, GA; Nashville, TN; St Louis, MO; Kirksville, MO; Des Moines, IA; Sioux Falls, SD; to Aberdeen, SD.

J-51 [Removed]

J-52 [Amended]

From Vancouver, BC, Canada; via Spokane, WA; Salmon, ID; Dubois, ID; Rock Springs, WY; Falcon, CO; Hugo, CO; Lamar, CO; Liberal, KS; INT Liberal 137° and Ardmore, OK, 309° radials; Ardmore; Texarkana, AR; Sidon, MS; Bigbee, MS; to Vulcan, AL. From INT Columbia 042° and Flat Rock, VA 212° radials; Raleigh-Durham, NC; to Richmond, VA. The portion within Canada is excluded.

J-53 [Removed]

J-73 [Amended]

From La Grange, GA; Nashville, TN; Pocket City, IN; to Northbrook, IL.

J-75 [Removed]

J-81 [Removed]

J-85 [Amended]

From Spartanburg, SC; Charleston, WV; INT Charleston 357° and Dryer, OH, 172° radials; Dryer.

J-89 [Amended]

From Atlanta, GA; Louisville, KY; Boiler, IN; Northbrook, IL; Badger, WI; Duluth, MN; to Winnipeg, MB, Canada. The portion within Canada is excluded.

J-91 [Amended]

From Volunteer, TN; to Henderson, WV.

J-97 [Removed]

J-210 [Removed]

J-575 [Removed]

Issued in Washington, DC, on April 23, 2020.
Scott M. Rosenbloom,
Acting Manager, Rules and Regulations Group.

[FR Doc. 2020-08948 Filed 4-27-20; 8:45 am]

BILLING CODE 4910-13-P